DEPARTMENT OF STATE

[Public Notice 12668]

30-Day Notice of Proposed Information Collection: Application for a U.S. Passport for Eligible Individuals: Correction, Name Change to Passport Issued 1 Year Ago or Less, and Limited Passport Replacement

ACTION: Notice of request for public comment.

SUMMARY: The Department of State has submitted the information collection described below to the Office of Management and Budget (OMB) for approval. In accordance with the Paperwork Reduction Act of 1995, we are requesting comments on these collections from all interested individuals and organizations. The purpose of this Notice is to allow 30 days for public comment.

DATES: The Department will accept comments from the public up to March 20, 2025.

ADDRESSES: Written comments and recommendations for the proposed information collection should be sent within 30 days of publication of this notice to: www.reginfo.gov/public/do/PRAMain. Find this information collection by selecting “Currently under 30-day Review—Open for Public Comments” or by using the search function. You must include the DS form number, information collection title, and the OMB control number in any correspondence (if applicable). You may send requests for additional information regarding the collection listed in this notice, including requests for copies of the proposed collection instrument and supporting documents, to the following email address: Passport-Form-Comments@State.gov. You must include the DS form number and information collection title in the email subject line.

SUPPLEMENTARY INFORMATION:

• Title of Information Collection: Application for a U.S. Passport for Eligible Individuals: Correction, Name Change to Passport Issued 1 Year Ago or Less, and Limited Passport Replacement.

• OMB Control Number: 1405-0160.

• Type of Request: Revision of a Currently Approved Collection.

• Originating Office: Bureau of Consular Affairs, Passport Services, Office of Program Management and Operational Support (CA/PPT/S/PMO).

• Form Number: DS-5504.

• Respondents: Individuals or Households.

• Estimated Number of Respondents: 767,500.

• Estimated Number of Responses: 767,500.

• Average Time per Response: 40 minutes.

• Total Estimated Burden Time: 511,700 hours.

• Frequency: On occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Application for a U.S. Passport for Eligible Individuals: Correction, Name Change to Passport Issued 1 Year Ago or Less, and Limited Passport Replacement (form DS-5504) is used by current passport holders who are eligible to re-apply for a passport at no cost.

Response to Public Comments

There were no comments submitted in response to the 60-day Notice.

Changes Since Last Renewal

In addition to plain language changes and general format changes, the following content changes have been made to the collection:

The Acts or Conditions statement on the form was revised to add an applicant statement, affirming that he or she is not required to register as a sex offender, in accordance with International Megan's Law (34 U.S.C. 21501 et seq., and 22 U.S.C. 212b). To comply with E.O. 14168, “Defending Women from Gender Ideology Extremism and Restoring Biological Truth to the Federal Government,” the Department updated the form to replace the term “gender” with “sex.” The U.S. Passport conforms with the standards set by the E.O. and the International Civil Aviation Organization, which among other things determine the various fields on the passport's biographical data page. Consistent with the E.O., the revised DS-5504 will request the applicant's biological sex at birth, male “M” or female “F.” Amendments to the fields and instructions (section 3) have been made to reflect this.

Methodology

Passport Services collects information from U.S. citizens and non-citizen nationals when they complete and submit the Application for a U.S. Passport for Eligible Individuals: Correction, Name Change to Passport Issued 1 Year Ago or Less, and Limited Passport Replacement (form DS-5504). Passport applicants can either download the DS-5504 from the internet or obtain the form from an acceptance facility/passport agency. The form must be completed, signed, and be submitted by mail (or in person at Passport Agencies domestically or U.S. embassies/consulates overseas).

Amanda E. Smith,
Managing Director for Passport Support Operations, Bureau of Consular Affairs, Passport Services, Department of State.

[FR Doc. 2025-02696 Filed 2-14-25; 8:45 am]

BILLING CODE 1407-06-P